DEPARTMENT OF COMMERCE

National Oceanic and Atmospheric Administration

RIN 0648-XG779

North Pacific Fishery Management Council; Public Meeting

AGENCY: National Marine Fisheries Service (NMFS), National Oceanic and Atmospheric Administration (NOAA), Commerce.

ACTION: Notice of telephonic meeting.

SUMMARY: The North Pacific Fishery Management Council (Council) will hold a teleconference on March 8, 2019.

DATES: The teleconference will be held on Friday, March 8, 2019 from 9 a.m. to 1 p.m., Alaska Standard Time.

ADDRESSES: The meeting will be held telephonically. Teleconference number is: (646) 749-3122, access code: 447-247-853.

Council address: North Pacific Fishery Management Council, 605 W 4th Ave., Suite 306, Anchorage, AK 99501-2252; telephone: (907) 271-2809.

FOR FURTHER INFORMATION CONTACT: Diana Evans, Council staff; telephone: (907) 271-2801.

SUPPLEMENTARY INFORMATION:

Agenda

Friday, March 8, 2019

The agenda will be to review the 2019 Norton Sound Red King Crab assessment and approve the final OFL and ABC for that stock.

The Agenda is subject to change, and the latest version will be posted at www.npfmc.org prior to the meeting, along with meeting materials.

Public Comment

Public comment will be limited to written comments only and should be submitted either electronically to meetings.npfmc.org or through the mail: North Pacific Fishery Management Council, 605 W 4th Ave., Suite 306, Anchorage, AK 99501-2252.

Special Accommodations

The meeting is physically accessible to people with disabilities. Requests for sign language interpretation or other auxiliary aids should be directed to Shannon Gleason at (907) 271-2809 at least 7 working days prior to the meeting date.

Dated: February 6, 2019.
Tracey L. Thompson,
Acting Deputy Director, Office of Sustainable Fisheries, National Marine Fisheries Service.

[FR Doc. 2019-01894 Filed 2-8-19; 8:45 am]

BILLING CODE 3510-22-P